DEPARTMENT OF TRANSPORTATION

Federal Highway Administration

Environmental Impact Statement: City of Buffalo, Erie County, New York

AGENCY: Federal Highway Administration (FHWA), DOT.

ACTION: Notice of Intent.

SUMMARY: The FHWA is issuing this notice to advise the public that an environmental impact statement will be prepared for a proposed highway project in the City of Buffalo, Erie County, New York.

FOR FURTHER INFORMATION CONTACT: Jonathan D. McDade, Division Administrator, Federal Highway Administration, New York Division, Leo O'Brien Federal Building, 11A Clinton Avenue, Suite 719, Albany New York 12207, Telephone: (518) 431-4127.

Or

Darrell F. Kaminski, Regional Director, NYSDOT Region 5; 100 Seneca Street, Buffalo, NY 14203, Telephone (716) 847-3238.

SUPPLEMENTARY INFORMATION: The FHWA, in cooperation with the New York State Department of Transportation, will prepare an Environmental Impact Statement (EIS) in accordance with the National Environmental Policy Act (NEPA) on a proposal to provide improved access to and from the US Border Port of Entry/Peace Bridge Plaza (Plaza), in the City of Buffalo, Erie County, New York. The primary need of the project is to address the limited direct access between the Plaza and Interstate 190. Existing direct access is limited and requires regional and international traffic to use the local street system. This limited access adds additional commercial traffic to the local streets which were originally designed to only meet the needs of local traffic. The purpose of the Project is to reduce the use of the local streets by interstate traffic and provide access to the existing Plaza at its current location. The primary objectives of the project are to address the need for direct access from the Plaza to the northbound lanes of Interstate 190, to redirect through traffic from Front Park, and to remove Baird Drive. Alternatives under consideration include: (1) The no-build alternative; and (2) an alternative to construct a new ramp from the Plaza to the northbound lanes of Interstate 190, to remove Baird Drive, and to provide alternate access from Porter Avenue to the Plaza.

Letters describing the proposed action and soliciting comments will be sent to the appropriate Cooperating and Participating Agencies and to private organizations and citizens that have expressed an interest in this action. Public and agency outreach will consist of: (1) A formal public Scoping meeting to be held Buffalo NY in June 2013, (2) a public hearing, (3) meetings with the applicable Cooperating and Participating Agencies, (4) a meeting with the Section 106 Consulting Parties including federally recognized Indian tribes. Public notice will be given of the date, time and place of the meetings and hearing. The draft EIS will be available for public and agency review and comment prior to the public hearing.

To ensure that a full range of issues related to this proposed action are addressed and all significant issues are identified, comments and suggestions are invited from all interested parties. Comments or questions concerning this proposed action and the EIS should be directed to the FHWA or NYSDOT at the addresses provided above.

(Catalog of Federal Domestic Assistance Program Number 20.205, Highway Research, Planning and Construction. The regulations implementing Executive Order 12372 regarding intergovernmental consultation on Federal programs and activities apply to this program.)

Issued on: April 30, 2013.
Jonathan D. McDade,
Division Administrator, New York Division, Federal Highway Administration, Albany, NY.

[FR Doc. 2013-10660 Filed 5-3-13; 8:45 am]

BILLING CODE 4910-22-P